ENVIRONMENTAL PROTECTION AGENCY

40 CFR Part 122

[FRL-8007-7]

Correction to the Fall 2005 Regulatory Agenda

AGENCY: Environmental Protection Agency.

ACTION: Correction.

SUMMARY: On October 31, 2005, the Regulatory Plan and the Unified Agenda of the Federal Regulatory and Deregulatory Actions for the Environmental Protection Agency was published in the Federal Register (70 FR 65206). The regulatory agenda entry for sequence number 3378, “Oil and Gas Phase II Storm Water Permit Requirements,” contains erroneous information. This notice corrects the information that was published in the Federal Register (70 FR at 65345) under the headings of Legal Authority, CFR Citation, Abstract, and Timetable.

FOR FURTHER INFORMATION CONTACT: Jeff Smith, Office of Wastewater Management, Office of Water, Environmental Protection Agency (4203M) Environmental Protection Agency, 1200 Pennsylvania Ave., NW., Washington, DC 20460; telephone number: (202) 564-0652; fax number: (202) 564-6431; e-mail address: smith.jeff@epa.gov.

SUPPLEMENTARY INFORMATION: The Environmental Protection Agency (EPA) publishes the semiannual regulatory agenda to update the public about:

Regulations and major policies currently under development,

Reviews of existing regulations and major policies, and

Rules and major policymakings completed or canceled since the last Agenda.

The regulatory agenda entry in the proposed rule section for sequence number 3378, “Oil and Gas Phase II Storm Water Permit Requirements” (70 FR 65345) contains erroneous information. The Agency did not intend to express an interpretation of the Energy Policy Act of 2005 in advance of the EPA publishing the proposed rule. This notice corrects the information that was provided under the headings of Legal Authority, CFR Citation, Abstract, and Timetable for the Oil and Gas Phase II Storm Water Permit Requirements action. The following agenda item replaces in its entirety the agenda item that was provided in the EPA's Semiannual Regulatory Agenda for sequence number 3378, Oil and Gas Phase II Storm Water Permit Requirements:

Priority: Substantive, Significant.

Legal Authority: CWA 402(p).

CFR Citation: 40 CFR 122.26.

Legal Deadline: None.

Abstract: On Monday, August 8, President Bush signed into law The Energy Policy Act of 2005. Section 323 of this legislation modifies section 502 of the Federal Water Pollution Control Act to define the term “oil and gas exploration, production, processing, or treatment operations, or transmission facilities” to mean “all field activities or operations associated with exploration, production, processing, or treatment operations, or transmission facilities, including activities necessary to prepare a site for drilling and for the movement and placement of drilling equipment, whether or not such field activities or operations may be considered to be construction activities.” In order to accommodate the changes in the new law, EPA expects to propose modifications to its current regulations governing construction site storm water discharges for oil and gas activities regulated by the Phase I and Phase II storm water rules.

Timetable
Action | Date | FR cite
NPRM | 12/00/05 |
Final Action | 06/00/06 |

Regulatory Flexibility Analysis Required: No.

Small Entities Affected: No.

Government Levels Affected: Federal, State.

Additional Information: SAN No. 4979.

Agency Contact:

Jeff Smith, Environmental Protection Agency, Water, 4203M, Washington, DC 20460. Phone: 202-564-0652. Fax: 202-564-6431. E-mail: smith.jeff@epa.gov.

Deborah Nagle, Environmental Protection Agency, Water, 4203M, Washington, DC 20460. Phone: 202-564-1185. Fax: 202-564-6431. E-mail: nagle.deborah@epa.gov.

Dated: December 7, 2005.
Louise P. Wise,
Deputy Associate Administrator, Office of Policy, Economics, and Innovation.

[FR Doc. E5-7274 Filed 12-12-05; 8:45 am]

BILLING CODE 6560-50-P